FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 19, 2005.

A. Federal Reserve Bank of Dallas (W. Arthur Tribble, Vice President) 2200 North Pearl Street, Dallas, Texas 75201-2272:

1. Randle W. Jones and Melanie Hynds Jones, Van Alstyne, Texas; to retain voting shares of Val Alstyne Financial Corporation, Van Alstyne, Texas, and indirectly retain voting shares of Van Alstyne Nevada Financial Corporation, Reno, Nevada, and Texas Star Bank, Van Alstyne, Texas.

2. Richard L. Kinsel, Jr., and Janice L. Kinsel, Friendswood, Texas, acting in concert, to acquire additional voting shares of 1st Choice Bancorp, Inc., Houston, Texas, and thereby indirectly acquire additional voting shares of 1st Choice Bank, Houston, Texas.

B. Federal Reserve Bank of San Francisco (Tracy Basinger, Director, Regional and Community Bank Group) 101 Market Street, San Francisco, California 94105-1579:

1. Michael J. Goldfarb, to retain voting shares of Foundation Bancorp, Inc., and thereby indirectly retain voting shares of Foundation Bank, all in Bellevue, Washington.

Board of Governors of the Federal Reserve System, June 30, 2005.
Robert deV. Frierson,
Deputy Secretary of the Board.

[FR Doc. 05-13324 Filed 7-6-05; 8:45 am]

BILLING CODE 6210-01-S